DEPARTMENT OF ENERGY

Federal Energy Regulatory Commission

[Docket No. RP99-355-044

Baltimore Gas and Electric Company; Notice of Proposed Changes in FERC Gas Tariff

April 6, 2001.

Take notice that on March 30, 2001, Baltimore Gas and Electric Company (BGE) tendered for filing as part of its FERC Gas Tariff, First Revised Sheet No. 1.1.

BGE states that this tariff sheet is being filed to cancel its limited jurisdiction FERC Gas Tariff effective May 1, 2001.

Any person desiring to protest said filing should file a protest with the Federal Energy Regulatory Commission, 888 First Street, NW., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fer.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-9026 Filed 4-11-01; 8:45 am]

BILLING CODE 6717-01-M